FEDERAL COMMUNICATIONS COMMISSION

47 CFR Part 73

[DA 04-3055; MB Docket No. 04-380; RM-11069]

Radio Broadcasting Services; Corydon and Lanesville, IN

AGENCY: Federal Communications Commission.

ACTION: Proposed rule.

SUMMARY: This document requests comments on a petition for rulemaking filed by Blue Chip Broadcasting Licenses II, Ltd., licensee of Station WGZB-FM, Corydon, Indiana proposing the reallotment of Channel 243A from Corydon, Indiana to Lanesville, Indiana, as the community's first local transmission service, and the modification of the license for Station WGZB-FM to reflect the changes. The coordinates for Channel 243A at Lanesville are 38-12-52 NL and 86-01-00 WL, the same as those currently used by WGZB-FM at Corydon.

DATES: Comments must be filed on or before November 18, 2004, and reply comments on or before December 3, 2004.

ADDRESSES: Secretary, Federal Communications Commission, 445 Twelfth Street, SW., Washington, DC 20554. In addition to filing comments with the FCC, interested parties should serve the petitioner's counsel as follows: Evan S. Henschel, Esq., Wiley Rein & Fielding LLP, 1776 K Street NW., Washington, DC 20006.

FOR FURTHER INFORMATION CONTACT: Helen McLean, Media Bureau, (202) 418-2738.

SUPPLEMENTARY INFORMATION: This is a synopsis of the Commission's Notice of Proposed Rule Making, MB Docket No. 04-380, adopted September 23, 2004, and released September 27, 2004. The full text of this Commission decision is available for inspection and copying during normal business hours in the FCC's Reference Information Center at Portals II, CY-A257, 445 Twelfth Street, SW., Washington, DC. This document may also be purchased from the Commission's duplicating contractors, Best Copy and Printing, Inc., 445 12th Street, SW., Room CY-B402, Washington, DC 20554, telephone 1-800-378-3160 or http://www.BCPIWEB.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR § 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Indiana, is amended by removing Channel 243A at Corydon and by adding Lanesville, Channel 243A.

Federal Communications Commission.
John A. Karousos,
Assistant Chief, Audio Division, Media Bureau.

[FR Doc. 04-22879 Filed 10-8-04; 8:45 am]

BILLING CODE 6712-01-P